DEPARTMENT OF JUSTICE

National Institute of Corrections

Solicitation for a Cooperative Agreement—Leading and Sustaining Change

AGENCY: National Institute of Corrections, Department of Justice.

ACTION: Solicitation for a cooperative agreement.

SUMMARY: The Department of Justice (DOJ), National Institute of Corrections (NIC), announces the availability of funds in FY 2003 for a cooperative agreement to fund the project “Leading and Sustaining Change.” NIC will award a one year cooperative agreement to assist state prisons by developing change leadership competency in key leaders and by providing professional change advisors/consultation to those leaders so they are able to change the culture of their institutions from a negative to a positive prison culture.

A total of $100,000 is reserved for the project during fiscal years 2003. There will be $100,000 available in FY 2004 upon satisfactory performance. The current application is only for the FY 2003 funds.

A cooperative agreement is a form of assistance relationship where the National Institute of Corrections is substantially involved during the performance of the award. The recipient of the award will be selected through the competitive solicitation process.

DATES: Applications must be received by 4 p.m. Eastern Daylight Savings Time on July 30, 2003.

ADDRESSES/APPLICATION PROCEDURES: Applications must be submitted in six copies to the Director, National Institute of Corrections, 320 First Street, NW., Room 5007, Washington, DC 20534. At least one copy of the application must have the applicant's original signature in blue ink. A cover letter must identify the responsible audit agency for the applicant's financial accounts.

Applicants are encouraged to use Federal Express, UPS, or similar service to ensure delivery by due date as the mail at the National Institute of Corrections is still being delayed due to decontamination procedures. Applications mailed or submitted by express delivery should be sent to: National Institute of Corrections, 320 First Street, NW., Room 5007, Washington, DC 20534, Attn: Director. Hand delivered applications can be brought to 500 First Street, NW., Washington, DC 20534. At the front desk, call (202) 307-3106 extension 0 for pickup. Faxed or e-mailed applications will not be accepted.

FOR FURTHER INFORMATION CONTACT: A copy of this announcement and applications forms can be downloaded from the NIC Web site at http://www.nicic.org. Hard copies of the announcement can be obtained by calling Rita Rippetoe (800) 995-6423, extension 44222 or by e-mail via rrippetoe@bop.gov.

All technical and or programmatic questions concerning this announcement should be directed to Evelyn Bush at the above address or by calling (800) 995-6423, extension 40376 0r (202) 514-0376 or by e-mail via E1Bush@bop.gov.

SUPPLEMENTARY INFORMATION: None.

Background: The NIC Prisons Division has responded to many technical assistance requests from prisons over the past several years that have been focused on problems such as excessive use of force, staff sexual misconduct, high rates of violence and prison disturbances. Through these efforts, NIC has learned that the presenting problems were often symptomatic of an underlying problem within the prison culture. These dysfunctional prison cultures were guiding staff behavior away from their legitimate missions and putting institutions in jeopardy of vulnerability to lawsuit, violence, injuries and abuse.

One of the growing problems was in the area of staff sexual misconduct complaints. beginning in 1996, the Prisons Division initiated a program focuses on addressing staff sexual misconduct. Throughout this work, consistent themes emerged underscoring the importance of the institutional environment. This “environment” or “culture” emerged as the single most important factor influencing the underlying, presenting issue.

Correctional agencies have a “formal” culture, exemplified by mission statements, policies, procedures, codes of conduct, etc. which provide staff with the guiding rules for working in that agency. Those “rules” are affirmed through staff recognition ceremonies, promotions, awards, ribbons of distinction and other rituals. However, within every organization there are day-to-day events and situations which are not covered by policy. An “informal” culture emerges to give staff guidance about “the way things are really done here.” The kind of support staff receive, the manner in which stress response behaviors are handled, the amount of trust and pride which are characteristic of the workforce are all dependent on the informal culture.

Staff attitudes and behaviors, and whether they support the formal culture or encourage deviant alternatives, will define the culture of any correctional institution. When the formal and informal cultures are complementary, a positive prison culture will prevail and such environments are sometimes referred to as healthy or “hope-based” cultures. However, when the formal and informal cultures are contradictory, then the environment becomes negative, unhealthy and is often referred to as a “fear-based” culture. Staff may feel disconnected from the institution based on a number of factors, including time on the job, age, race, gender, education background, and “old school vs. new school” mentality. A fear-based institutional culture can be characterized by cliches, selective sharing of critical information, abuse of power and position, codes of silence, and even intimidation, among other factors. This negative prison culture permeates the environment, impacting both staff and inmates, and can be seen as the backdrop to a host of prison problems ranging from poor staff morale to abuse of inmates and high rates of inmate violence.

Based on information gathered from the Mission Change and Staff Sexual Misconduct projects over the past few years, NIC recognized that there are several elements of changing a prison's culture which are necessary in order to accomplish a change in the culture, not just the climate of the prison. There needs to be an assessment of the current culture and an understanding of the dynamics which are driving this culture. From a comprehensive assessment, an initial plan of action can be developed which will chart the course for changing the prison culture. NIC worked for several years to develop, test and implement the prison culture. NIC worked for several years to develop, test and implement the Organizational Culture Assessment Protocol—Prisons (described on a following page). NIC also recognized that there are some needs that a number of prisons might have in common and so began developing several responses which could be implemented in a prison if they were warranted. Strategic Planning and Management assistance as well as training in Promoting a Positive Prison Culture and Effective Supervising a Multi-generational Workforce are still being developed but are nearing the point where they can be implemented in a prison.

This solicitation will build on those previous works and become a part of the assistance that NIC will offer to prisons attempting to change their prison to a positive, hope-based culture. The warden will need to take the lead in accomplishing any culture change in a prison. Most wardens come from backgrounds where operational skills are prominent and they have developed leadership abilities throughout their careers. However, being an effective leader and being an effective Change Leader are not the same set of skills and abilities. The warden will need to understand the key elements of organizational change, who to lead and inspire staff through a change process, how various roles will perceive the value of the change, and many other elements of change leadership. Developing the capacity of wardens and other critical staff to lead the change process will be one of the primary objectives of this solicitation.

Organizational changes is complicated—doing it inside a prison with a fear-based culture is even more complicated. Recognizing that there are expert professionals who understand organizational change on a deep level, NIC will work collaboratively with them to provide guidance to the leaders of all the institutions in the Institutional Culture Initiative. They will work with the wardens and other changes leaders for a period of potentially several years in order to accomplish the changing of a prison's culture. They will recommend actions which can be taken, training which can be provided, developmental opportunities where they are required, organizational changes if they are desired. They will identify the type of change an institution is going through (developmental, transitional or transformational) and target the change strategies to most effectively work in that type of change process. The Change Advisers will recommend NIC assistance and Department of Corrections resources as needed to successfully accomplish a culture change. They will also be able to assess an institution's Readiness for Change and will be in a position to identify the Lessons Learned about changing prison culture which can add to the knowledge base on the corrections profession.

The projects which are currently part of the Institutional Culture Initiative include:

1. Institutional Culture Assessment: A validated organizational culture assessment was adapted for use in a prison. The organizational Culture Assessment Instrument-Prisons (OCAI-P) has been developed in a Protocol (OCAP-P) which as been applied in 12 state prisons. The report describes the overall culture, unique features and the institution's strengths and weaknesses, as well as suggestions for improvement and change. NIC is committed to assisting these prisons to use their assessment information to change the culture of the prison from the previous state to a desired positive prison culture.

2. Strategic, Planning, Management and Response: A cooperative agreement was awarded in September 2002 to review Strategic Planing models being used by state departments of corrections and other public sector agencies to select one Strategic Planning model that would be of greatest benefit to state departments of corrections and state prisons. The selected mode, which is 50% completed, will be fully developed with all relevant materials that would be required for implementation in an opening correctional agency. The model will be tested as part of a supplemental cooperative agreement. This cooperative agreement will also develop a training program and train twelve correctional professionals to facilitate use of the model in selected sites to improve prison culture.

3. Promoting a Positive Prison Culture Program (PPPC): The purpose of this two day Program is to introduce all levels of correctional staff in one institution to the concepts of organizational culture and its influences on achievement of the prison's mission. The curriculum is being developed and will be complete in August 2003. The objectives of the PPPC program are for participants to be able to:

• Differentiate between climate and culture;

• Explain the relationships among and between the formal and informal culture;

• Identify their roles and responsibilities in developing, changing and sustaining culture;

• Define the current culture and create a picture of their future; and

• Understand and explain how mission, values, beliefs, and assumptions are interrelated and how they can contribute to or detract from the prison's mission.

It will be available to be utilized at prisons involved in this part at the Change Advisor's recommendation.

4. Multi-generational Workforce: A two-day training program, to be piloted in September 2003, that will assist correctional staff in examining the changing values and demographic shifts that are impacting the workforce and hence, the environmental. Failure to recognize the different values and attributes of the changing workforce can result in an underlying dysfunctional culture issue.

Leading and Sustaining Change will be an additional component of the Institutional Culture Initiative. Working with prisons already involved in the Institutional Culture Initiative, it will provide correctional wardens and other key staff with the assistance needed to develop the capacity for change leadership and will provide a Change Advisor to assist in the culture change process.

Purpose: The National Institute of Corrections is seeking applications for a cooperative agreement to assist state prisons by developing change leadership competency in key leaders and by providing professional change advisors/consultation to those leaders so that they are able to change the culture of their institutions from a negative to a positive prison culture.

Scope of Project

1. Develop competencies for Change Leadership at the level of state prison warden and for key persons above and below them in the correctional chain of command. Development of this competency can include training, developmental opportunities, team activities, coaching, and/or any other strategy the applicant proposes. The applicant should address how to develop a leadership culture in the prison. The applicant should provide a sound rationale for their proposed plan.

2. Provide professional Change Coaches/Consultants/Advisers to work with state prison wardens who are engaged in changing the culture of their institution. The Change Advisers (the term which will be used throughout the RFP) should plan to begin working upon award of this cooperative agreement with four to six state prisons which have had an Institutional Culture Assessment conducted.

3. Identify available instruments which can assess an institution's Readiness of Change, with a supported recommendation from the applicant regarding the instruments which would be most appropriate in which situations. The applicant must propose individuals as part of the project team or as consultants who are qualified to administer the proposed instruments.

4. The selected applicant will be required to attend a preliminary meeting for the purpose of getting an overview of the current NIC work in the Institutional Culture Initiative as well as a refinement of the project work plan. The applicant is also required to attend two (2) coordinating meetings each year with all the other project staff from the Institutional Culture Initiative. The applicant can determine how many project staff, in addition to the Project Director, should participate in these meetings. The cost for attendance at these meetings must be reflected in the budget.

5. Document the process of changing each project institution's culture for the purpose of ultimately producing a Guide to Changing Prison Culture, which incorporates a Lessons Learned summary to understanding culture change in prisons.

6. Prepare a Final Report which includes a Case Study to date of each prison which is in the process of changing their culture.

Specific Requirements

1. Although the Warden will be the primary Change Leader at the institution, the applicant should identify what positions above and below the warden level would benefit by developing competency in change leadership. The applicant should clearly identify what developmental activities would be appropriate for which levels of correctional staff.

2. Applicants must purpose one or more professional Change Advisers who will be a significant part of the Project Team. The background and experience of the Change Adviser(s) are critical to successfully competing for this award. Therefore the Change Advisers must meet the following requirements:

• All Change Advisers who will work on this project must be identified in the application and must meet the requirements identified in this RFP. All Change Advisers must submit a statement of their intent to work on this project and the time they are willing to commit.

• All Change Advisers must have extensive experience in guiding multiple organizations/agencies through a significant change process and these must be identified in their resume or biographical statement.

• As part of this cooperative agreement application, all persons identified as Change Advisers must submit one (1) Case Study of an organizational change process they guided (the actual name of the organziation may be changed for the case study but actual names must be included in the resume). The Case Study must include, at a minimum: the presenting organizational problem(s); how they were identified; how the Change Adviser was brought into the organization and what their original charge/mission was; the role they played in the organizational change process and whether their role changed during the time they were involved; the strategies used in effecting organizational change and the Change Adviser's role in them; interventions which were implemented and their impact; the time frame for the Change Adviser's involvement in the change process compared to the duration of the change process itself; the total amount of time the Change adviser committed to the organization going through organizational change; the Change Advisers relationship with the CEO of the organization; the amount of face time the Change Adviser spent with the CEO; whether there were behaviors that the CEO changed as a result of working with the Change Adviser. There is no expectation that the Case Study will involve a correctional institution.

3. In developing the competencies for change leadership, the applicant should specifically address the role of first line supervisors in the change process and how they would be included in the process of changing the prison culture.

4. The applicant should discuss Developmental, Transitional and Transformational Change in relation to prisons changing their culture. Applicants must address the implications for the change leader in evaluating the type of change and how they would identify appropriate strategies targeted to the type of change.

5. The Change Adviser should plan to be brought in early to the Institutional Culture Assessment process for all those institutions which are assessed after this cooperative agreement is awarded and they will fully participate in the development of the Action Plan. For those institutions which have already had a Culture Assessment conducted and Action Plan developed, the Change Adviser will review the plan and begin working with the institution Change Leaders. The costs of the assessment and all work connected with the assessment are contained in another cooperative agreement. The applicant will have full access to all of the assessment data on each prison which is part of the Institutional Culture Initiative.

6. Technical Assistance will be provided by NIC to accomplish as much of the recommended work as is possible. The institutions themselves and the departments of corrections will also be asked to fund some of the work needed to change the prison culture. This cooperative agreement is not intended to fund the interventions which might be required to change the culture other than what is identified in the scope of the project.

7. The application must clearly identify the relationship among change advisers and other project staff. The applicant will assure that the project team offers technical expertise in the required areas to fulfill this solicitation.

8. The applicant must identify specific strategic for working collaboratively with NIC and with the other contractors managing the various components of the Institutional Culture Initiative to provide the most effective assistance to state prisons in changing their culture.

9. The applicant must include professional Change Advisers and experienced correctional professionals on their project team. These persons can be project staff or consultants. The correctional experience must be at the state prison level and at least one team member/consultant must have worked in a management position in a state prison, preferably as a warden. Although anyone who has worked in an administrative position within a department of corrections could say they have participated in accomplishing change, that experience will not be sufficient for meeting the requirements of a professional Change Adviser. All proposed project staff and consultants will need to be individually approved by NIC prior to working in any of the prisons in the culture change project.

10. There is a limited amount of funds for this work. The applicant should consider the amount of time that will need to be spent on-site at the institutions versus coaching/consulting that can effectively be conducted electronically or work that can be done with groups of prison staff. Costs for all travel must be included in this application.

11. The applicant can recommend any additional programs/components that might strengthen and improve the Institutional Culture Initiative, based on their work with the project sites.

12. It is anticipated that there will be $100,000 available in FY 2004, based on satisfactory performance by the awardee, to continue the work with the original sites and to add additional prisons to the project work. If a training program is proposed as part of the competency in developing Change Leadership, the applicant may provide a rationale for developing the training program/curriculum in this fiscal year 2003 cooperative agreement and funding the implementation of the program from the fiscal year 2004 funds.

13. The person designated as project director is required to be the person who will manage the project on a day-to-day basis and who has full decision-making authority to work with the NIC project manager. This person must have enough time dedicated to the project to assure they are available to direct step by step activities of the project and to be available for collaboration with the NIC project manager. The position of the project director must be described in this paragraph.

Application Requirements: Applications must be submitted using OMB Standard Form 424, Federal Assistance, and attachments. The applications should be concisely written, typed double-spaced, and referenced to the project by the number and title given in this cooperative agreement announcement.

The narrative portion of this cooperative agreement application should include, at a minimum:

• A brief paragraph that indicates the applicant's understanding of the purpose of this cooperative agreement;

• One or more paragraphs to detail the applicant's understanding of the need for this project in the correctional arena;

• A brief paragraph that summarizes the project goals and objectives;

• A clear description of the methodology that will be used to complete the project and achieve its goals;

• A clearly developed Project Plan which demonstrates how the various goals and objectives of the project will be achieved through its various activities so as to produce the required results;

• A chart of measurable project milestones and time lines for the completion of each milestones;

• A description of the qualifications of the applicant organization and each project staff;

• A description of the staffing plan for the project, including the role of each project staff: The time commitment for each, the relationship among the staff (who reports to whom), and a statement from individual staff that they will be available to work on this project;

• A budget that details all costs for the project, shows consideration for all contingencies for this project, and notes a commitment to work within the budget proposed (budget should be divided into object class categories as shown on application Standard Form 424A). A budget narrative must be included which explains how all costs were determined.

Authority: Public Law 93-415.

Funds Available: The award will be limited to a maximum of $100,000.00 (direct and indirect costs) in fiscal year 2003. An additional award of $100,000 may be available with satisfactory performance. Funds may only be used for the activities that are linked to the desired outcome of the project. No funds are transferred to state or local governments. This project will be a collaborative venture with the NIC Prisons Division. NIC retains the right to select the applicants for participation.

Eligibility of Applicants:

An eligible applicant is any state or general unit of local government, private agency, educational institution, organization, individuals or team with expertise in the requested areas.

Review Considerations: Applicants received under this announcement will be subjected to 3 to 5 member Peer Review Process.

Number of Awards: One (1).

NIC Application Number: 03P24. This number should appear as a reference line in the cover letter and also in box 11 of Standard Form 424 and on the outside of the envelope in which the application is sent.

Executive Order 12372: This program is not subject to the provisions of Executive Order 12372.

The Catalog of Federal Domestic Assistance number is: 16.601, Title: Training and Staff Development.

Morris L. Thigpen,
Director, National Institute of Corrections.

[FR Doc. 03-16145 Filed 6-25-03; 8:45 am]

BILLING CODE 4410-36-M